DEPARTMENT OF THE INTERIOR

Bureau of Land Management

[OR-100 5882 RD 50; HAG 07-0155]

Roseburg District Resource Advisory Committee: Meeting

Pursuant to the Federal Advisory Committee Act, the Department of the Interior Bureau of Land Management (BLM) announces the following advisory committee meeting:

Name: Roseburg District Resource Advisory Committee.

Time and Date: 9 a.m. August 20, 2007; 9 a.m. September 17, 2007; 9 a.m. September 24, 2007.

Place: Roseburg District Office, 777 NW., Garden Valley Blvd., Roseburg, Oregon 97470.

Status: Open to the public; a public comment period will be provided.

Matters to be Considered: The Resource Advisory Committee will consider proposed projects for Title II funding that focus on maintaining or restoring water quality, land health, forest ecosystems, and infrastructure.

Contact Person for More Information: Program information, meeting records and a roster of Committee members may be obtained from Jake Winn, Restoration Coordinator, 777 NW., Garden Valley Blvd., Roseburg, Oregon 97470; (541) 464-3275.

Should you require reasonable accommodation, please contact the BLM Roseburg District at (440) 440-4940 as soon as possible.

Jay Carlson,
District Manager.

[FR Doc. 07-3905 Filed 8-9-07; 8:45 am]

BILLING CODE 4310-33-M